DEPARTMENT OF HOMELAND SECURITY

Federal Emergency Management Agency

44 CFR Part 64

[Docket ID FEMA-2012-0003; Internal Agency Docket No. FEMA-8227]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR Part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region II
New Jersey:
Alexandria, Township of, Hunterdon County | 340230 | June 28, 1973, Emerg; April 1, 1981, Reg; May 2, 2012, Susp. | May 2, 2012 | May 2, 2012.
Delaware, Township of, Hunterdon County | 340506 | October 21, 1974, Emerg; January 20, 1982, Reg; May 2, 2012, Susp. | ......do* | Do.
Frenchtown, Borough of, Hunterdon County | 340234 | January 15, 1974, Emerg; March 16, 1981, Reg; May 2, 2012, Susp. | ......do | Do.
Holland, Township of, Hunterdon County | 340509 | June 24, 1975, Emerg; March 16, 1981, Reg; May 2, 2012, Susp. | ......do | Do.
Kingwood, Township of, Hunterdon County | 340499 | November 21, 1973, Emerg; November 4, 1981, Reg; May 2, 2012, Susp. | ......do | Do.
Lambertville, City of, Hunterdon County | 340237 | September 4, 1973, Emerg; April 1, 1981, Reg; May 2, 2012, Susp. | ......do | Do.
Milford, Borough of, Hunterdon County | 340239 | August 6, 1975, Emerg; November 18, 1981, Reg; May 2, 2012, Susp. | ......do | Do.
Stockton, Borough of, Hunterdon County | 345322 | April 23, 1971, Emerg; June 16, 1972, Reg; May 2, 2012, Susp. | ......do | Do.
West Amwell, Township of, Hunterdon County | 340243 | November 17, 1972, Emerg; April 1, 1981, Reg; May 2, 2012, Susp. | ......do | Do.
New York:
Amenia, Town of, Dutchess County | 361332 | February 4, 1976, Emerg; September 24, 1984, Reg; May 2, 2012, Susp. | ......do | Do.
Beacon, City of, Dutchess County | 360217 | May 8, 1975, Emerg; March 1, 1984, Reg; May 2, 2012, Susp. | ......do | Do.
Beekman, Town of, Dutchess County | 361333 | February 5, 1976, Emerg; September 5, 1984, Reg; May 2, 2012, Susp. | ......do | Do.
Clinton, Town of, Dutchess County | 361334 | March 1, 1976, Emerg; July 5, 1984, Reg; May 2, 2012, Susp. | ......do | Do.
Dover, Town of, Dutchess County | 361335 | March 22, 1976, Emerg; August 15, 1984, Reg; May 2, 2012, Susp. | ......do | Do.
East Fishkill, Town of, Dutchess County | 361336 | July 24, 1975, Emerg; June 15, 1984, Reg; May 2, 2012, Susp. | ......do | Do.
Fishkill, Town of, Dutchess County | 361337 | September 19, 1975, Emerg; June 1, 1984, Reg; May 2, 2012, Susp. | ......do | Do.
Fishkill, Village of, Dutchess County | 360218 | August 20, 1975, Emerg; March 15, 1984, Reg; May 2, 2012, Susp. | ......do | Do.
Hyde Park, Town of, Dutchess County | 361338 | May 6, 1976, Emerg; June 15, 1984, Reg; May 2, 2012, Susp. | ......do | Do.
LaGrange, Town of, Dutchess County | 361011 | February 26, 1975, Emerg; September 28, 1979, Reg; May 2, 2012, Susp. | ......do | Do.
Milan, Town of, Dutchess County | 361339 | November 6, 1975, Emerg; August 10, 1979, Reg; May 2, 2012, Susp. | ......do | Do.
Millbrook, Village of, Dutchess County | 360219 | March 25, 1975, Emerg; February 27, 1984, Reg; May 2, 2012, Susp. | ......do | Do.
Millerton, Village of, Dutchess County | 360220 | June 24, 1975, Emerg; January 3, 1985, Reg; May 2, 2012, Susp. | ......do | Do.
North East, Town of, Dutchess County | 361340 | August 8, 1975, Emerg; September 5, 1984, Reg; May 2, 2012, Susp. | ......do | Do.
Pawling, Town of, Dutchess County | 361341 | June 1, 1976, Emerg; January 3, 1985, Reg; May 2, 2012, Susp. | ......do | Do.
Pawling, Village of, Dutchess County | 361517 | March 4, 1976, Emerg; August 1, 1984, Reg; May 2, 2012, Susp. | ......do | Do.
Pine Plains, Town of, Dutchess County | 361141 | June 16, 1976, Emerg; October 5, 1984, Reg; May 2, 2012, Susp. | ......do | Do.
Pleasant Valley, Town of, Dutchess County | 360221 | July 2, 1975, Emerg; January 16, 1980, Reg; May 2, 2012, Susp. | ......do | Do.
Poughkeepsie, City of, Dutchess County | 360222 | May 1, 1975, Emerg; January 5, 1984, Reg; May 2, 2012, Susp. | ......do | Do.
Poughkeepsie, Town of, Dutchess County | 361142 | October 21, 1974, Emerg; November 15, 1978, Reg; May 2, 2012, Susp. | ......do | Do.
Red Hook, Town of, Dutchess County | 361143 | May 19, 1975, Emerg; October 16, 1984, Reg; May 2, 2012, Susp. | ......do | Do.
Red Hook, Village of, Dutchess County | 361614 | May 10, 1985, Emerg; May 10, 1985, Reg; May 2, 2012, Susp. | ......do | Do.
Rhinebeck, Town of, Dutchess County | 361144 | September 12, 1975, Emerg; September 5, 1984, Reg; May 2, 2012, Susp. | ......do | Do.
Rhinebeck, Village of, Dutchess County | 361999 | February 9, 1984, Emerg; February 1, 1985, Reg; May 2, 2012, Susp. | ......do | Do.
Stanford, Town of, Dutchess County | 361145 | March 19, 1976, Emerg; January 21, 1983, Reg; May 2, 2012, Susp. | ......do | Do.
Tivoli, Village of, Dutchess County | 361507 | March 18, 1976, Emerg; August 1, 1984, Reg; May 2, 2012, Susp. | ......do | Do.
Union Vale, Town of, Dutchess County | 361146 | July 28, 1975, Emerg; September 2, 1988, Reg; May 2, 2012, Susp. | ......do | Do.
Wappinger, Town of, Dutchess County | 361387 | February 12, 1975, Emerg; June 15, 1979, Reg; May 2, 2012, Susp. | ......do | Do.
Wappinger Falls, Village of, Dutchess County | 360223 | April 18, 1975, Emerg; September 1, 1978, Reg; May 2, 2012, Susp. | ......do | Do.
Washington, Town of, Dutchess County | 361147 | December 11, 1975, Emerg; August 17, 1979, Reg; May 2, 2012, Susp. | ......do | Do.
Region IV
Florida:
Bradford County, Unincorporated Areas | 120015 | May 23, 1975, Emerg; November 15, 1989, Reg; May 2, 2012, Susp. | ......do | Do.
Brooker, Town of, Bradford County | 120016 | N/A, Emerg; April 16, 1990, Reg; May 2, 2012, Susp. | ......do | Do.
Hampton, City of, Bradford County | 120627 | N/A, Emerg; January 15, 1999, Reg; May 2, 2012, Susp. | ......do | Do.
Lawtey, City of, Bradford County | 120628 | N/A, Emerg; March 19, 1998, Reg; May 2, 2012, Susp. | ......do | Do.
Starke, City of, Bradford County | 120017 | June 27, 1975, Emerg; June 18, 1987, Reg; May 2, 2012, Susp. | ......do | Do.
Mississippi:
Arcola, Town of, Washington County | 280178 | May 14, 1973, Emerg; August 1, 1986, Reg; May 2, 2012, Susp. | ......do | Do.
Greenville, City of, Washington County | 280179 | April 10, 1973, Emerg; August 1, 1979, Reg; May 2, 2012, Susp. | ......do | Do.
Hollandale, City of, Washington County | 280180 | May 4, 1973, Emerg; January 14, 1983, Reg; May 2, 2012, Susp. | ......do | Do.
Leland, City of, Washington County | 280181 | May 2, 1973, Emerg; February 15, 1979, Reg; May 2, 2012, Susp. | ......do | Do.
Washington County, Unincorporated Areas | 280177 | May 4, 1973, Emerg; September 3, 1980, Reg; May 2, 2012, Susp. | ......do | Do.
Region V
Ohio:
Lisbon, Village of, Columbiana County | 390085 | February 8, 1977, Emerg; September 30, 1988, Reg; May 2, 2012, Susp. | ......do | Do.
Wisconsin:
Burlington, City of, Racine County | 550348 | July 18, 1973, Emerg; May 15, 1978, Reg; May 2, 2012, Susp. | ......do | Do.
Caledonia, Village of, Racine County | 550628 | N/A, Emerg; December 5, 2008, Reg; May 2, 2012, Susp. | ......do | Do.
Mount Pleasant, Village of, Racine County | 550322 | N/A, Emerg; April 28, 2008, Reg; May 2, 2012, Susp. | ......do | Do.
Racine, City of, Racine County | 555575 | March 26, 1971, Emerg; June 1, 1973, Reg; May 2, 2012, Susp. | ......do | Do.
Racine County, Unincorporated Areas | 550347 | July 5, 1973, Emerg; April 1, 1982, Reg; May 2, 2012, Susp. | ......do | Do.
Rochester, Village of, Racine County | 550352 | March 21, 1975, Emerg; January 2, 1981, Reg; May 2, 2012, Susp. | ......do | Do.
Sturtevant, Village of, Racine County | 550353 | N/A, Emerg; April 28, 2008, Reg; May 2, 2012, Susp. | ......do | Do.
Union Grove, Village of, Racine County | 550586 | March 15, 1979, Emerg; June 17, 1986, Reg; May 2, 2012, Susp. | ......do | Do.
Waterford, Village of, Racine County | 550354 | June 10, 1975, Emerg; January 2, 1981, Reg; May 2, 2012, Susp. | ......do | Do.
Wind Point, Village of, Racine County | 550355 | March 18, 1975, Emerg; September 30, 1980, Reg; May 2, 2012, Susp. | ......do | Do.
Region VI
Arkansas:
Bald Knob, City of, White County | 050222 | September 19, 1975, Emerg; April 3, 1987, Reg; May 2, 2012, Susp. | ......do | Do.
Beebe, City of, White County | 050223 | October 9, 1975, Emerg; September 1, 1981, Reg; May 2, 2012, Susp. | ......do | Do.
Biggers, Town of, Randolph County | 050388 | November 20, 1975, Emerg; August 24, 1982, Reg; May 2, 2012, Susp. | ......do | Do.
Bradford, City of, White County | 050131 | January 14, 1983, Emerg; October 15, 1985, Reg; May 2, 2012, Susp. | ......do | Do.
Georgetown, Town of, White County | 050605 | February 21, 2001, Emerg; May 13, 2004, Reg; May 2, 2012, Susp. | ......do | Do.
Higginson, Town of, White County | 050225 | October 18, 2007, Emerg; December 1, 2007, Reg; May 2, 2012, Susp. | ......do | Do.
Judsonia, City of, White County | 050226 | May 9, 1975, Emerg; September 1, 1987, Reg; May 2, 2012, Susp. | ......do | Do.
Kensett, City of, White County | 050227 | January 19, 1976, Emerg; August 1, 1987, Reg; May 2, 2012, Susp. | ......do | Do.
Maynard, Town of, Randolph County | 050265 | August 7, 1975, Emerg; September 21, 1982, Reg; May 2, 2012, Susp. | ......do | Do.
McRae, City of, White County | 050228 | August 20, 1975, Emerg; June 25, 1976, Reg; May 2, 2012, Susp. | ......do | Do.
Pocahontas, City of, Randolph County | 050183 | September 25, 1974, Emerg; January 20, 1982, Reg; May 2, 2012, Susp. | ......do | Do.
Randolph County, Unincorporated Areas | 050460 | March 10, 1983, Emerg; April 1, 1988, Reg; May 2, 2012, Susp. | ......do | Do.
Reyno, Town of, Randolph County | 050283 | February 26, 1976, Emerg; August 24, 1982, Reg; May 2, 2012, Susp. | ......do | Do.
Searcy, City of, White County | 050229 | May 6, 1975, Emerg; February 4, 1981, Reg; May 2, 2012, Susp. | ......do | Do.
White County, Unincorporated Areas | 050467 | October 7, 1997, Emerg; March 1, 2000, Reg; May 2, 2012, Susp. | ......do | Do.
Texas:
Llano County, Unincorporated Areas | 481234 | January 9, 1980, Emerg; September 18, 1991, Reg; May 2, 2012, Susp. | ......do | Do.
Sunrise Beach Village, City of, Llano County | 481531 | April 16, 1990, Emerg; September 27, 1991, Reg; May 2, 2012, Susp. | ......do | Do.
Region VII
Kansas:
Goddard, City of, Sedgwick County | 200500 | November 30, 1977, Emerg; June 10, 1980, Reg; May 2, 2012, Susp. | ......do | Do.
Maize, City of, Sedgwick County | 200520 | N/A, Emerg; December 24, 2002, Reg; May 2, 2012, Susp. | ......do | Do.
Sedgwick County, Unincorporated Areas | 200321 | July 17, 1975, Emerg; June 3, 1986, Reg; May 2, 2012, Susp. | ......do | Do.
Wichita, City of, Sedgwick County | 200328 | March 24, 1972, Emerg; May 15, 1986, Reg; May 2, 2012, Susp. | ......do | Do.
Region VIII
Colorado:
Fort Collins, City of, Larimer County | 080102 | August 14, 1974, Emerg; July 16, 1979, Reg; May 2, 2012, Susp. | ......do | Do.
Larimer County, Unincorporated Areas | 080101 | July 2, 1974, Emerg; April 2, 1979, Reg; May 2, 2012, Susp. | ......do | Do.
Utah:
Carbon County, Unincorporated Areas | 490032 | November 27, 1974, Emerg; November 15, 1979, Reg; May 2, 2012, Susp. | ......do | Do.
East Carbon, City of, Carbon County | 490225 | March 7, 1975, Emerg; May 1, 1986, Reg; May 2, 2012, Susp. | ......do | Do.
Ephraim, City of, Sanpete County | 490112 | January 31, 1975, Emerg; April 3, 1987, Reg; May 2, 2012, Susp. | ......do | Do.
Fairview, City of, Sanpete County | 490113 | June 12, 1975, Emerg; February 1, 1987, Reg; May 2, 2012, Susp. | ......do | Do.
Gunnison, City of, Sanpete County | 490115 | August 27, 1975, Emerg; January 30, 1984, Reg; May 2, 2012, Susp. | ......do | Do.
Helper, City of, Carbon County | 490034 | June 10, 1975, Emerg; March 1, 1979, Reg; May 2, 2012, Susp. | ......do | Do.
Manti, City of, Sanpete County | 490116 | July 10, 1975, Emerg; August 4, 1987, Reg; May 2, 2012, Susp. | ......do | Do.
Mayfield, Town of, Sanpete County | 490117 | July 15, 2010, Emerg; N/A, Reg; May 2, 2012, Susp. | ......do | Do.
Moroni, City of, Sanpete County | 490118 | July 9, 1975, Emerg; August 5, 1980, Reg; May 2, 2012, Susp. | ......do | Do.
Mount Pleasant, City of, Sanpete County | 490213 | February 25, 1976, Emerg; September 24, 1984, Reg; May 2, 2012, Susp. | ......do | Do.
Price, City of, Carbon County | 490036 | April 26, 1974, Emerg; March 1, 1979, Reg; May 2, 2012, Susp. | ......do | Do.
Sanpete County, Unincorporated Areas | 490111 | March 2, 1976, Emerg; June 1, 1986, Reg; May 2, 2012, Susp. | ......do | Do.
Spring City, City of, Sanpete County | 490119 | May 7, 1976, Emerg; August 5, 1980, Reg; May 2, 2012, Susp. | ......do | Do.
Sunnyside, City of, Carbon County | 490205 | June 16, 1975, Emerg; September 29, 1978, Reg; May 2, 2012, Susp. | ......do | Do.
Wellington, City of, Carbon County | 490037 | February 9, 1977, Emerg; February 2, 1984, Reg; May 2, 2012, Susp. | ......do | Do.
* do = Ditto.
Code for reading third column: Emerg.—Emergency; Reg.—Regular; Susp.—Suspension.

Dated: April 12, 2012.
David L. Miller,
Associate Administrator, Federal Insurance and Mitigation Administration, Department of Homeland Security, Federal Emergency Management Agency.

[FR Doc. 2012-10001 Filed 4-25-12; 8:45 am]

BILLING CODE 9110-12-P